DEPARTMENT OF HEALTH AND HUMAN SERVICES

National Institutes of Health

National Cancer Institute Amended Notice of Meeting

Notice is hereby given of a change in the meeting of the National Cancer Advisory Board, February 13, 2018, 1:00 p.m. to February 13, 2018, 4:00 p.m., National Cancer Institute Shady Grove, Shady Grove, 9609 Medical Center Drive, TE 406, Rockville, MD 20850 which was published in the Federal Register on January 22, 2018, 83 FR 3003.

The meeting notice is being amended to change the meeting times for the open and closed sessions. The open session will he held from 1:00 p.m. to 3:10 p.m. The closed session will be held from 3:25 p.m. to 4:25 p.m. The meeting is partially closed to the public.

Dated: January 31, 2018.
Melanie J. Pantoja,
Program Analyst, Office of Federal Advisory Committee Policy.

[FR Doc. 2018-02249 Filed 2-2-18; 8:45 am]

BILLING CODE 4140-01-P